DEPARTMENT OF COMMERCE

International Trade Administration

[A-570-846]

Brake Rotors From the People's Republic of China: Final Results of the Twelfth New Shipper Review

AGENCY: Import Administration, International Trade Administration, Department of Commerce.

SUMMARY: On September 28, 2005, the Department of Commerce (the “Department”) published in the Federal Register the preliminary results of the new shipper review of the antidumping duty order on brake rotors from the People's Republic of China (“PRC”). See Brake Rotors From the People's Republic of China: Preliminary Results of the Twelfth New Shipper Review, 70 FR 56634 (September 28, 2005) (“Preliminary Results”). We gave interested parties an opportunity to comment on the Preliminary Results. We made one change to the dumping margin calculations for the final results. See Analysis for the Final Results of Brake Rotors from the People's Republic of China: Dixion Brake System (Longkou) Ltd., dated January 18, 2006, (“Dixion Final Analysis Memo”); see also Analysis for the Final Results of Brake Rotors from the People's Republic of China: Laizhou Wally Automobile Co., Ltd., dated January 18, 2006, (“Wally Final Analysis Memo”)

EFFECTIVE DATE: January 25, 2006.

FOR FURTHER INFORMATION CONTACT: Nicole Bankhead (for Respondent Dixion) or Kit Rudd (for Respondent Wally) AD/CVD Operations, Office 9, Import Administration, International Trade Administration, U.S. Department of Commerce, 14th Street and Constitution Avenue, NW., Washington, DC 20230; telephone: (202) 482-9068 or (202) 482-1385, respectively.

SUPPLEMENTARY INFORMATION:

Case History

The Preliminary Results for this new shipper review were published on September 28, 2005. Since the Preliminary Results, the following events have occurred:

On October 28, 2005, both the Coalition for the Preservation of American Brake Drum and Rotor Aftermarket Manufacturers (“Petitioner”) and Laizhou Wally Automobile Co., Ltd. (“Wally”) and Dixion Brake System (Longkou) Ltd. (“Dixion”), collectively “Respondents,” submitted publicly available information to be used in valuing surrogate values for the final results. On November 1, 2005, Respondents submitted additional surrogate value information to rebut the information provided by Petitioner.

On November 8, 2005, we received case briefs from both Petitioner and Respondents. On November 14, 2005, Petitioner and Respondents submitted their rebuttal briefs. On December 13, 2005, the Department extended the final results by 30 days. See Brake Rotors From the People's Republic of China: Extension of Time Limit for Final Results of the Twelfth New Shipper Review, 70 FR 75449 (December 20, 2005).

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States. (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (“HTSUS”). Although the HTSUS subheading is provided for convenience and customs purposes, the written description of the scope of this order is dispositive.

Analysis of Comments Received

All issues raised in the case and rebuttal briefs by parties to this proceeding and to which we have responded are listed in the Appendix to this notice and addressed in the Issues and Decision Memorandum, which is hereby adopted by this notice. Parties can find a complete discussion of the issues raised in this new shipper review and the corresponding recommendations in this public memorandum which is on file in the Central Records Unit (“CRU”), room B-099 of the main Department building. In addition, a complete version of the Issues and Decision Memorandum can be accessed directly on our Web site at http://ia.ita.doc.gov. The paper copy and electronic version of the Issues and Decision Memorandum are identical in content.

Changes Since the Preliminary Results

Based on a review of the record since the Preliminary Results, the surrogate values for brokerage and handling and labor changed slightly. See Decision Memorandum at 2; see also Memorandum from Nicole Bankhead, Case Analyst, through Alex Villanueva, Program Manager, Office 9 and James C. Doyle, Office Director, Office 9, to The File, 12th New Shipper Review of Brake Rotors from the People's Republic of China (“PRC”): Surrogate Values for the Final Results, dated January 18, 2006 (“Final Factors Memo”).

Partial Adverse Facts Available

In the Preliminary Results, the Department determined that the use of partial facts available was warranted for the selection of certain surrogate values pursuant to sections 776(a) and 776(b) of the Tariff Act of 1930, as amended (the “Act”). See Preliminary Results. However, for the final results, the Department is applying an adverse inference, as provided under section 776(b) of the Act, to value certain factors of production used by both Respondents. Specifically, Respondents were unable to provide period of review (“POR”) documentation to support their claims regarding the chemical content and material specificity of the inputs pig iron, ferrosilicon, and ferromanganese. Therefore, the Department finds that Respondents did not act to the best of their ability to comply with the Department's request for information, and for the final results, will apply partial adverse facts available to value these inputs. However, the values used to value pig iron, ferrosilicon, and ferromanganese have not changed since the Preliminary Results and therefore the application of partial adverse facts available did not cause a change in the margin. See Decision Memorandum at Comment 1.

Final Results of Review

The weighted-average dumping margins for the POR are as follows:

Brake Rotors from the PRC
Manufacturer/Exporter | Weighted-Average Margin (Percent)
Laizhou Wally Automobile Co., Ltd. (“Wally”) | 0.00
Dixion Brake System (Longkou) Ltd. (“Dixion”) | 8.15

Assessment

The Department will determine, and U.S. Customs and Border Protection (“CBP”) shall assess, antidumping duties on all appropriate entries, pursuant to 19 CFR 351.212(b). We have calculated importer-specific duty assessment rates on the basis of the ratio of the total amount of antidumping duties calculated for the examined sales to the total entered value of the examined sales for each importer. In accordance with 19 CFR 351.106(c)(2), we will instruct CBP to liquidate, without regard to antidumping duties, all entries of subject merchandise during the POR for which the importer-specific assessment rate is zero or de minimis (i.e., less than 0.50 percent). To determine whether the per-unit duty assessment rates are de minimis (i.e., less than 0.50 percent), in accordance with the requirement set forth in 19 CFR 351.106(c)(2), we calculated importer or customer-specific ad valorem ratios based on export prices. We will direct CBP to apply the resulting assessment rates to the entered customs values for the subject merchandise on each of the importer's entries during the review period. The Department will issue appropriate assessment instructions directly to the CBP within 15 days of publication of these final results of review.

Cash Deposit Requirements

Bonding will no longer be permitted to fulfill security requirements for shipments of brake rotors from the PRC that are manufactured and exported by Wally and Dixion, and entered, or withdrawn from warehouse, for consumption on or after the publication date of the final results of the new shipper review.

The following cash deposit rates shall be required for merchandise subject to the order, entered, or withdrawn from warehouse, for consumption on or after the publication date of these final results, as provided by section 751(a)(1) and (a)(2)(C) of the Act: (1) The cash deposit rate for Wally (i.e., for subject merchandise manufactured and exported by Wally), will be zero; (2) the cash deposit rate for Dixion (i.e., for subject merchandise manufactured and exported by (Dixion) will be the rate indicated above; (3) the cash deposit rate for PRC exporters who received a separate rate in a prior segment of the proceeding will continue to be the rate assigned in that segment of the proceeding; (4) the cash deposit rate for the PRC NME entity and for subject merchandise exported by Wally and Dixion but not manufactured by themselves will continue to be the PRC-wide rate (i.e., 43.32 percent); and (5) the cash deposit rate for non-PRC exporters of subject merchandise from the PRC will be the rate applicable to the PRC exporter that supplied the exporter.

These deposit requirements shall remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this new shipper review and notice in accordance with sections 751(a)(2)(B) and 777(i) of the Act.

Dated: January 18, 2006.
David Spooner,
Assistant Secretary for Import Administration.

Appendix I Decision Memorandum

General Issues:

Comment 1: Valuation of Material Factors of Production

Comment 2: Valuation of Brokerage and Handling

Comment 3: Scrap Offset in Surrogate Financial Ratios

Wally-Specific Issues:

Comment 4: Wally's Bona Fide Sales

[FR Doc. E6-928 Filed 1-24-06; 8:45 am]

BILLING CODE 3510-DS-S